DEPARTMENT OF HEALTH AND HUMAN SERVICES

Administration for Community Living

Notice of Intent To Award a Single-Source Non-Competing Continuation Application To Fund Grant Number 90DN0296 the University of Colorado for an Additional 12 Months

SUMMARY: The Administration for Community Living (ACL) recently announced the awarding of the University of Colorado for the State of the States in Intellectual and Developmental Disabilities (State of the States) project. The University of Colorado will maintain and advance a comparative nationwide longitudinal study of public financial commitments and programmatic trends in developmental disabilities services and supports.

SUPPLEMENTARY INFORMATION:

Program Name: State of the States on Intellectual and Developmental Disabilities.

Award Amount: $350,000.00.

Statutory Authority: The Developmental Disabilities and Bill of Rights Act of 2000.

Catalog of Federal Domestic Assistance (CFDA) Number: 93.631.

Program Description: The Administration on Developmental and Intellectual Disabilities, an agency of the U.S. Administration for Community Living, has been funding the State of the States project for thirty-five years. The project's activities include: A analyzing developmental disabilities financial and programmatic trends in each state and the District of Columbia; identifying trends and innovations in the financing of family support supported living, and supported employment in the states; completing special studies, such as Medicaid spending for special education; collaborating with the University of Massachusetts and the University of Minnesota to show targeted current year and longitudinal data on the project Web site and providing a create-a-chart option allowing reports to be customized. The comparative nationwide longitudinal study of public financial commitments and programmatic trends in developmental disabilities services and supports is a thirty-year body of work.

Agency Contact: For further information or comments regarding this supplemental action, contact Katherine-Cargill-Willis, U.S. Department of Health and Human Services, Administration for Community Living, Administration on Intellectual and Developmental Disabilities, 330 C Street SW., Washington, DC 20201; telephone 202-795-7322; email katherine.cargill-willis@acl.hhs.gov.

Dated: July 17, 2017.
Mary Lazare,
Acting Administrator and Assistant Secretary for Aging.

[FR Doc. 2017-15662 Filed 7-25-17; 8:45 am]

BILLING CODE 4154-01-P